DEPARTMENT OF ENERGY

Federal Energy Regulatory Commission

[Docket Nos. EG12-16-000, EG12-17-000, EG12-18-000, EG12-19-000, EG12-20-000, EG12-21-000, EG12-22-000, EG12-23-000]

Rocky Ridge Wind Project, LLC, Blackwell Wind, LLC, CPV Cimarron Renewable Energy Company, LLC, Minco Wind Interconnection Services, LLC, Shiloh III Lessee, LLC, California Ridge Wind Energy LLC, Perrin Ranch Wind, LLC, Erie Wind, LLC: Notice of Effectiveness of Exempt Wholesale Generator Status

Take notice that during the month of February 2012, the status of the above-captioned entities as Exempt Wholesale Generators or Foreign Utility Companies became effective by operation of the Commission's regulations. 18 CFR 366.7(a).

Dated: March 2, 2012.
Kimberly D. Bose,
Secretary.

[FR Doc. 2012-5616 Filed 3-7-12; 8:45 am]

BILLING CODE 6717-01-P